ENVIRONMENTAL PROTECTION AGENCY

[EPA-HQ-OPPT-2020-0077; FRL-10012-19]

Certain New Chemicals; Receipt and Status Information for June 2020

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 06/01/2020 to 06/30/2020.

DATES: Comments identified by the specific case number provided in this document must be received on or before August 27, 2020.

ADDRESSES: Submit your comments, identified by docket identification (ID) number EPA-HQ-OPPT-2020-0077, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

FOR FURTHER INFORMATION CONTACT: For technical information contact: Jim Rahai, Information Management Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave. Rochester, NY 14620; telephone number: (202) 554-1404; email address: TSCA-Hotline@epa.gov.

SUPPLEMENTARY INFORMATION:

I. Executive Summary

A. What action is the Agency taking?

This document provides the receipt and status reports for the period from 06/01/2020 to 06/30/2020. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory please go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g. P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved* From 06/01/2020 to 06/30/2020
Case No. | Version | Received date | Manufacturer | Use | Chemical substance
J-20-0007 | 1 | 06/03/2020 | CBI | (G) Ethanol production | (G) Biofuel producing Saccharomyces cerevisiae modified, genetically stable.
J-20-0008 | 1 | 06/03/2020 | CBI | (G) Ethanol production | (G) Biofuel producing Saccharomyces cerevisiae modified, genetically stable.
J-20-0009 | 1 | 06/10/2020 | CBI | (G) Ethanol production | (G) Biofuel producing Saccharomyces cerevisiae modified, genetically stable.
J-20-0010 | 1 | 06/10/2020 | CBI | (G) Ethanol production | (G) Biofuel producing Saccharomyces cerevisiae modified, genetically stable.
J-20-0011 | 1 | 06/10/2020 | CBI | (G) Ethanol production | (G) Biofuel producing Saccharomyces cerevisiae modified, genetically stable.
J-20-0012 | 1 | 06/12/2020 | CBI | (G) Ethanol production | (G) Biofuel producing Saccharomyces cerevisiae modified, genetically stable.
P-16-0313A | 3 | 06/10/2020 | Honeyol, Inc | (S) Use in production of resins (raw material used in the production of resins) | (S) Tar acids (shale oil), C6â9 fraction, alkylphenols, low-boiling.
P-16-0345A | 4 | 06/15/2020 | CBI | (G) Processing aid | (G) Acrylamide, polymer with methacrylic acid derivatives.
P-16-0449A | 3 | 06/19/2020 | CBI | (S) Use per FFDCA: cosmetics, Use per TSCA: Fragrance uses; scented papers, detergents, candles etc | (S) 2,7-Decadienal, (2E,7Z)-.
P-17-0333A | 9 | 06/09/2020 | Miwon North America, Inc | (S) Reactive diluent for optical film coating | (G) 2-Propenoic acid, mixed esters with heterocyclic dimethanol and heterocyclic methanol.
P-18-0049A | 3 | 06/09/2020 | CBI | (G) Coating component/processing aid | (G) Mixed metal halide.
P-18-0084A | 8 | 06/18/2020 | ShayoNano USA, Inc | (S) Additive for water based paints and coatings | (S) silicon zinc oxide.
P-18-0256A | 5 | 06/10/2020 | CBI | (G) Chemical Intermediate | (S) Undecanol, branched.
P-18-0281A | 3 | 05/13/2020 | CBI | (G) Electrolyte additive | (G) Cyclic sulfate.
P-18-0298A | 2 | 06/23/2020 | Hexion Inc | (G) Epoxy curing agent | (G) 1,3-Propanediol, 2-ethyl-2-(hydroxymethyl)-, polymer with ethyleneamine, 2-(chloromethyl)oxirane, 2-[[4-(1,1-dimethylethyl)phenoxy]methyl]oxirane, 2,2′-[1,6-hexanediylbis(oxymethylene)]bis[oxirane], 4,4′-(1-methylethylidene)bis[phenol], alkyl ether amine, and 2-[(2-methylphenoxy methyl]oxirane.
P-18-0308A | 3 | 06/18/2020 | CBI | (G) Additive for engineering plastics | (G) Bis[(hydroxyalkoxy)aryl]carbopolycyclic.
P-18-0318A | 3 | 06/12/2020 | GELEST | (S) Surface treatment for added lubricity and anti-static properties and Research | (S) 1-Octadecanaminium, N,N-dimethyl-N-[3-(triethoxysilyl)propyl]- chloride.
P-18-0320A | 3 | 06/17/2020 | CBI | (G) Hardner | (G) Alkane, diisocyanato-(isocyanatoalkyl)-.
P-18-0325A | 4 | 06/19/2020 | Allnex USA Inc | (S) Industrial crosslinking catalyst | (G) Benzenesulfonic acid, alkyl derivs., compds. with diisopropanolamine.
P-18-0330A | 4 | 05/27/2020 | CBI | (G) initiator | (G) Formaldehyde, polymer with alkyl aryl ketone.
P-18-0341A | 8 | 06/09/2020 | CBI | (G) Component in coatings | (G) Alkane dicarboxylic acid, polymer with alkoxylated polyalcohol , alkyl polyglycol, alkyl dialcohol, and functionalized carboxylic acid.
P-18-0342A | 8 | 06/09/2020 | CBI | (G) Component in coatings | (G) Alkane dicarboxylic acid, polymer with alkyl polyglycol, alkyl dialcohol, and functionalized carboxylic acid.
P-18-0343A | 8 | 06/09/2020 | CBI | (G) Component in coatings | (G) Alkane dicarboxylic acid, polymer with alkoxylated polyalcohol, and alkyl dialcohol, (hydroxy alkyl) ester.
P-18-0344A | 8 | 06/09/2020 | CBI | (G) Component in coatings | (G) Aromatic dicarboxylic acid, polymer with alkane dicarboxylic acid, alkoxylated polyalcohol, and alkyl dialcohol.
P-18-0363A | 4 | 06/19/2020 | CBI | (G) Adhesive | (G) Phenol, polymer with formaldehyde, substituted phenol, sodium salts.
P-18-0396A | 4 | 06/11/2020 | CBI | (G) Paint | (G) Alkenoic acid, alkyl, polymer with carbomonocyle alkyl propenoate and substituted alkyl alkenoate, ester with substituted alkyl alkanoate, tert-butyl substituted peroxoate-initiated.
P-18-0398A | 3 | 06/11/2020 | CBI | (S) Intermediate | (G) Polyalkylpolyalkylenepolyamine.
P-18-0398A | 4 | 06/17/2020 | CBI | (S) Intermediate | (G) Polyalkylpolyalkylenepolyamine.
P-18-0407A | 3 | 06/11/2020 | CBI | (S) Polyurethane catalyst | (S) 1,2-Ethanediamine, N,N-dimethyl-N-(1-methylethyl)-N-[2-[methyl(1-methylethyl)amino]ethyl]-.
P-19-0036A | 5 | 06/17/2020 | Ethox Chemicals, LLC | (S) As an additive to polymers for improvement in gas barrier performance | (S) 1,4-Benzenedicarboxylic acid, 1,4-bis(2-phenoxyethyl) ester.
P-19-0036A | 6 | 06/18/2020 | Ethox Chemicals, LLC | (S) As an additive to polymers for improvement in gas barrier performance | (S) 1,4-Benzenedicarboxylic acid, 1,4-bis(2-phenoxyethyl) ester.
P-19-0036A | 7 | 06/18/2020 | Ethox Chemicals, LLC | (S) As an additive to polymers for improvement in gas barrier performance | (S) 1,4-Benzenedicarboxylic acid, 1,4-bis(2-phenoxyethyl) ester.
P-19-0038A | 4 | 06/24/2020 | Allan Chemical Corporation | (S) Ink carrier for the ceramic industries | (S) Fatty acids, coco, iso-Bu esters.
P-19-0048A | 7 | 05/29/2020 | CBI | (G) Coating additive | (S) Poly(oxy-1,2-ethanediyl), .alpha.-hydro-.omega.-hydroxy-, mono-C12-14-alkyl ethers, phosphates, sodium salts.
P-19-0064A | 11 | 06/24/2020 | The Sherwin Williams Company | (G) Polymeric film former for coatings | (G) 4,4'-methylenebis[2,6-dimethyl phenol] polymer with 2-(chloromethyl)oxirane, 1,4-benzyl diol, 2-methyl-2-propenoic acid, butyl 2-methyl 2-propenoate, ethyl 2-methyl 2-propenoate, and ethyl 2-propenoate, reaction products with 2-(dimethylamino) ethanol.
P-19-0131A | 3 | 05/27/2020 | CBI | (G) Additive for horizontal oil drilling | (G) Isoalkylaminium, N-isoalkyl,-N, N-dimethyl chloride.
P-19-0145A | 8 | 05/28/2020 | ARC Products, Inc | (S) Oil Field Drilling Fluid Additive, Petroleum Production Fluid Additive and Fracturing Fluid Additive | (G) Polyazaalkane with oxirane and methyloxirane, haloalkane.
P-19-0162A | 2 | 06/22/2020 | CBI | (G) Component in Oil Production | (G) fatty acid alkyl amide, (dialkyl) amino alkyl, alkyl quaternized, salts.
P-20-0010A | 8 | 05/27/2020 | CBI | (G) Polymerization auxiliary | (G) Carboxylic acid, reaction products with metal hydroxide, inorganic dioxide and metal.
P-20-0018A | 3 | 06/26/2020 | CBI | (G) Component in candles | (G) Fatty acid dimers, polymers with glycerol and triglycerides.
P-20-0019A | 3 | 06/26/2020 | CBI | (G) Component in candles | (G) Fatty acid dimers, polymers with glycerol and triglycerides.
P-20-0020A | 3 | 06/26/2020 | CBI | (G) Component in candles | (G) Fatty acid dimers, polymers with glycerol and triglycerides.
P-20-0021A | 3 | 06/26/2020 | CBI | (G) Component in candles | (G) Fatty acid dimers, polymers with glycerol and fatty acids.
P-20-0023A | 3 | 06/11/2020 | CBI | (G) The notified substance will be used as a fragrance ingredient | (G) heteropolycycle, 2,6-dimethyl-3a-(1-methylethyl)-.
P-20-0029A | 5 | 06/19/2020 | Kuraray America, Inc | (G) Oil soluble additive | (S) Octanal, 7(or 8)-formyl-.
P-20-0035A | 3 | 06/02/2020 | CBI | (G) Colorant | (G) Substituted aromatic, 3,3′-[[6-[(substituted alkyl amino)]-1,3,5-triazine-2,4-diyl]bis[imino[2-(substituted)-5-[substituted alkoxy]-4,1-phenylene]-2,1- diazenediyl]]bis[substituted, sodium salt].
P-20-0038A | 2 | 06/04/2020 | Nissan Chemical Houston Corporation | (S) PMN substance will be used as resist compound for semiconductor manufacture | (S) 1,3,5-Triazine-2,4,6(1H,3H,5H)-trione, 1,3,5-tris[3-(2-oxiranyl)propyl]-.
P-20-0043A | 5 | 06/04/2020 | Saproterra | (S) Soil and Plant amendment. Soil Amendment is any substance which is intended to change the chemical or physical characteristics of soil. Plant amendment is any substance applied to plants or seeds which are intended to improve germination, growth, yield, quality, reproduction, flavor or other desirable characteristics | (S) Acetic acid, 2-[[3-(4-pyridinyl)-1H-1,2,4-triazol-5-yl]thio]-, compd. with 2-aminoethanol (1:1).
P-20-0051A | 4 | 05/28/2020 | CBI | (S) Curing agent for Industrial epoxy coating systems | (S) 1,8-Octanediamine, 4-(aminomethyl)-, N-benzyl derivs.
P-20-0056A | 4 | 06/04/2020 | CBI | (G) Pigment dispersant | (G) Polyphosphoric acids, 2-[(alkyl-1-oxo-alkene-1-yl)oxy]alkyl esters, polymers with acrylic acid, alkyl acrylate, alkyl methacrylate, hydroxyalkyl methacrylate and carbomonocycle, 2,2′-(1,2-diazenediyl)bis[2,4-dialkylalkanenitrogensubstituted]-initiated.
P-20-0057A | 2 | 06/15/2020 | Nusil Technology LLC | (G) Silane coupling agent used in silicone formulations | (G) Arene, trimethoxysilyl-, hydrolyzed.
P-20-0059A | 4 | 05/27/2020 | CBI | (S) Colorant for thermoplastic resins | (G) Propanedinitrile, 2-[[4-[ethyl[2-[4-( substitute methyl butyl)phenoxy]ethyl]amino]-2-methylphenyl]methylene].
P-20-0068A | 2 | 06/12/2020 | CBI | (G) Perfume | (S) 1,3-Propanediol, 2,2-dimethyl-, 1,3-diacetate.
P-20-0069A | 5 | 06/27/2020 | CBI | (G) Surface-active chemical | (G) 2-Propenoic acid, 2-methyl-, polymer with 2-hydroxyethyl 2-methyl-2-propenoate phosphate and 2-propenoic acid salt, peroxydisulfuric acid ([(HO)S(O)2]2O2) sodium salt (1:2)- and sodium (disulfite) (2:1)-initiated.
P-20-0071 | 6 | 06/22/2020 | CBI | (G) Colorant | (G) Salt of 2-Naphthalenesulfonic acid, hydroxy [(methoxy-methyl-4-sulfophenyl)diazenyl].
P-20-0072A | 2 | 06/18/2020 | CBI | (G) Additive used to impart specific physicochemical properties to finished articles | (G) Multi-walled carbon nanotubes.
P-20-0074A | 3 | 05/29/2020 | Clariant Corporation | (S) Surfactant for use in the formulation of pesticide products | (S) Oxirane, 2-methyl-, polymer with oxirane, monoundecyl ether, branched and linear.
P-20-0077 | 2 | 05/28/2020 | Aalborz Chemical LLC | (S) UV Curing Agent for use in Inks and Coatings | (G) 1-(dialkyl-diphenylene alkane)-2-alkyl-2-hydrooxazine-1-alkylketone.
P-20-0086A | 4 | 06/24/2020 | Daicel Chemtech, Inc | (G) Component of polymers | (G) 2-Oxepanone, homopolymer, ester with hydroxyalkyl trioxo heteromonocyclic (3:1).
P-20-0091 | 3 | 06/08/2020 | AOC | (S) The material in question will be use to make unsaturated polyester resins to service the composite industry | (S) 2,5-Furandione, polymer with 1,2-ethanediol and 2,2′-oxybis[ethanol], 2-ethylhexyl 3a,4,5,6,7,7a-hexahydro-4,7-methano-1H-indenyl ester.
P-20-0092A | 6 | 06/22/2020 | CBI | (G) Coloration of fabric | (G) Napthalenesulfonic acid, amino-hydroxy-bis [sulfo-[(sulfooxy)ethyl]sulfonyl]phenyl]diazinyl]-,potassium sodium salt.
P-20-0092A | 7 | 06/25/2020 | CBI | (G) Coloration of fabric | (G) Napthalenesulfonic acid, amino-hydroxy-bis [sulfo-[(sulfooxy)ethyl]sulfonyl]phenyl]diazinyl]-,potassium sodium salt.
P-20-0097A | 2 | 06/08/2020 | Nelson Brothers, LLC | (S) The PMN substance will be used as an emulsifier for applications in explosives | (G) Butanedioic acid, monopolyisobutylene derivs., mixed dihydroxyalkyl and hydroxyalkoxyalkyl diesters.
P-20-0098 | 2 | 06/26/2020 | CBI | (S) property modifier for polymers | (G) Calcium cycloalkylcarboxylate.
P-20-0099 | 5 | 06/11/2020 | Materion Advanced Chemicals | (S) A material used for the production of Li ion conductive separators for rechargeable batteries. For example and including, electric automobile batteries | (G) Mixed Metal Oxide.
P-20-0099A | 6 | 06/25/2020 | Materion Advanced Chemicals | (S) A material used for the production of Li ion conductive separators for rechargeable batteries. For example and including, electric automobile batteries | (G) Mixed Metal Oxide.
P-20-0100 | 2 | 06/16/2020 | Evonik Corporation | (S) Manual Dish Detergent, Hard Surface Cleaner, and Laundry Detergent | (S) Glycolipids, rhamnose-contg., Pseudomanas putida-fermented, from D-glucose, potassium salts.
P-20-0101 | 4 | 05/28/2020 | CBI | (S) Coating Resin | (G) Alkanoic acid, hydroxy-(hydroxyalkyl)-alkyl-, polymer with alpha-[(hydroxyalkyl)alkyl]-omega-alkoxypoly(oxy-alkanediyl), (haloalkyl)oxiane polymer (alkylalkylidene)bis[hydroxy-carbomonocycle] alkenoate and isocyanate-alkyl-carbomonocycle, hydroxyalkyl acrylate-blocked.
P-20-0103 | 3 | 06/05/2020 | Sachem Inc | (G) On site intermediate for the production of finished goods | (G) Cycloalphatic amine formate.
P-20-0103A | 4 | 06/24/2020 | Sachem Inc | (G) On site intermediate for the production of finished goods | (G) Cycloalphatic amine formate.
P-20-0103A | 5 | 06/24/2020 | Sachem Inc | (G) On site intermediate for the production of finished goods | (G) Cycloalphatic amine formate.
P-20-0104A | 3 | 06/03/2020 | CBI | (G) Additive | (G) Alkenoic acid, polymer with (alkyl alkenyl) polyether.
P-20-0104A | 4 | 06/12/2020 | CBI | (G) Additive | (G) Alkenoic acid, polymer with (alkyl alkenyl) polyether.
P-20-0105 | 1 | 05/28/2020 | Sound Agriculture Company | (S) Maltol lactone is a compound that promotes microbial activity in the soil, resulting in increased availability of phosphorus for crops. This substance will be used on commercial farming operations | (S) 4H-Pyran-4-one, 3-[(2,5-dihydro-4-methyl-5-oxo-2-furanyl)oxy]-2-methyl-.
P-20-0106 | 1 | 06/03/2020 | CBI | (G) Polymer reactant | (G) Aminoalkanoic acid, N,N-bis(2-alkoxyalkyl)-, 2-alkoxyalkyl.
P-20-0106A | 2 | 06/22/2020 | CBI | (G) Polymer reactant | (G) 3-(2-Alkoxyalkyl)-2-heterocycle.
P-20-0107 | 2 | 06/28/2020 | CBI | (G) Crosslinking polymer | (G) Carbimide, polyalkylenepolyarylene ester, polymer with 1,2-alkanediol, 2-alkoxyalkyl methacrylate- and 3-(2-alkoxyalkyl)-2-heterocycle-blocked.
P-20-0108 | 1 | 06/08/2020 | CBI | (G) Film-forming polymer | (G) Alkanoic acid, compds. with diphenolmethane derivative-N1,N1-dialkyl-1,3-alkanediamine-epiclorohydrin-2-cyclic ester homopolymer with dialkylene glycol (2:1) polymer-dialkanolamine reaction products.
P-20-0108A | 2 | 06/12/2020 | CBI | (G) Film-forming polymer | (G) Alkanoic acid, compds. with diphenolmethane derivative-N1,N1-dialkyl-1,3-alkanediamine-epiclorohydrin-2-cyclic ester homopolymer with dialkylene glycol (2:1) polymer-dialkanolamine reaction products.
P-20-0108A | 3 | 06/26/2020 | CBI | (G) Film-forming polymer | (G) Alkanoic acid, compds. with diphenolmethane derivative-N1,N1-dialkyl-1,3-alkanediamine-epiclorohydrin-2-cyclic ester homopolymer with dialkylene glycol (2:1) polymer-dialkanolamine reaction products.
P-20-0110 | 1 | 06/09/2020 | Clariant Corporation | (S) Base oil additive for lubricants and greases | (G) Oxirane, 2-methyl-, polymer with oxirane, (alkoxyalkoxy)alkyl alkyl ether.
P-20-0111 | 1 | 06/09/2020 | Westlake Chemical Corporation | (G) Component in flexible automotive interior parts | (S) 1,2,4-Benzenetricarboxylic acid, 1,2,4-trinonyl ester.
P-20-0112 | 1 | 06/10/2020 | Sefa Group Inc | (S) Additive for polymers: e.g., rubber, plastics, adhesives, coatings and sealants | (G) Ashes (residues), reactions products with dicarboxylic acid, silicic acid (H4SiO4) tetra-Et ester and 2-[[3-(trialkoxysilyl)alkoxy]methyl]oxirane.
P-20-0113 | 1 | 06/10/2020 | Sefa Group Inc | (S) Additive for polymers: e.g.,rubber, plastics, adhesives, coatings and sealants | (G) Ashes (residues), reactions products with substituted tricarboxylic acid, silicic acid (H4SiO4) tetra-Et ester and 2-[[3-(trialkoxysilyl)alkoxy]methyl]oxirane.
P-20-0114 | 1 | 06/10/2020 | Sefa Group Inc | (S) Additive for polymers: e.g., rubber, plastics, adhesives, coatings and sealants | (G) Ashes (residues), reactions products with dicarboxylic acid, silicic acid (H4SiO4) tetra-Et ester and 2-[[3-(trialkoxysilyl)alkoxy]methyl]oxirane.
P-20-0115 | 1 | 06/10/2020 | Sefa Group Inc | (S) Additive for polymers: e.g., rubber, plastics, adhesives, coatings and sealants | (G) Ashes (residues), reactions products with substituted tricarboxylic acid, silicic acid (H4SiO4) tetra-Et ester and 2-[[3-(trialkoxysilyl)alkoxy]methyl]oxirane.
P-20-0116 | 1 | 06/10/2020 | Sefa Group Inc | (S) Additive for polymers: e.g., rubber, plastics, adhesives, coatings and sealants | (G) Ashes (residues), reactions products with dicarboxylic acid, silicic acid (H4SiO4) tetra-Et ester and 2-[[3-(trialkoxysilyl)alkoxy]methyl]oxirane.
P-20-0117 | 1 | 06/10/2020 | Sefa Group Inc | (S) Additive for polymers: e.g., rubber, plastics, adhesives, coatings and sealants | (G) Ashes (residues), reactions products with dicarboxylic acid, silicic acid (H4SiO4) tetra-Et ester and 2-[[3-(trialkoxysilyl)alkoxy]methyl]oxirane.
P-20-0118 | 2 | 06/22/2020 | CBI | (G) Additive in household consumer products | (S) Pyridine, 4-methyl-2-pentyl-.
P-20-0119 | 1 | 06/12/2020 | CBI | (G) An ingredient used in the manufacture of photoresist | (G) Carbopolycyclicoxoalkoxy(dialkyl)carbomonocyclic dicarbomonocyclic sulfonium, salt with trialkyl oxoheteropolycyclic substitutedalkyl carboxylate.
P-20-0120 | 1 | 06/12/2020 | CBI | (G) An ingredient used in the manufacture of photoresist | (G) Carbomonocyclic sulfonium, salt with trihalo-sulfoalkyl hydroxycarbopolycyclic carboxylate.
P-20-0121 | 1 | 06/17/2020 | CBI | (S) Chemical intermediate | (G) Imidic acid, alkyl ester, sulfate,
P-20-0122 | 3 | 06/23/2020 | Shin-Etsu Microsi | (G) Microlithography for electronic device manufacturing | (G) Heterocyclic onium compound with 1-substituted-alkyl 2,2,2-trisubstitutedalkyl 2-methyl-2-propenoate (1:1), polymer with acenaphthylene, 4-ethenyl-a,a-dimethylbenzenemethanol and 4-ethenylphenyl acetate, hydrolyzed.
P-20-0123 | 1 | 06/18/2020 | CBI | (S) Binder | (G) Nitrogen-substituted heterocycle, homopolymer, N-(nitrogen-substituted alkyl) derivs., sulfates.
P-20-0124 | 1 | 06/19/2020 | CBI | (G) Additive in Household consumer products | (S) 5-octen-4-ol, 3,5-dimethyl-, (5E)-.
P-20-0125 | 1 | 06/19/2020 | CBI | (G) Additive in Household consumer products | (S) 4-Penten-1-one, 1-(5-ethyl-5-methyl-1-cyclohexen-1-yl)-.
P-20-0126 | 1 | 06/24/2020 | CBI | (G) Additive in household consumer products | (S) 4-Decenal, 5,9-dimethyl-.
SN-20-0006 | 2 | 06/03/2020 | CBI | (G) Color Developer | (S) Phenol, 4,4′-[1-[4-[1-(4-hydroxyphenyl)-1-methylethyl]phenyl]ethylidene]bis-.
* The term `Approved' indicates that a submission has passed a quick initial screen ensuring all required information and documents have been provided with the submission prior to the start of the 90 day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved* From 06/01/2020 to 06/30/2020
Case No. | Received date | Commencement date | If amendment, type of amendment | Chemical substance
P-16-0424 | 06/24/2020 | 06/23/2020 | N | (G) Tetraalkylpiperidium hydroxide.
P-17-0109 | 06/24/2020 | 04/12/2020 | N | (S) 1,3-propanediamine, N1-(3-aminopropyl)-N1-[3-(dimethylamino)propyl]-N3,N3-dimethyl-.
P-17-0172A | 06/22/2020 | 09/13/2018 | Changed to import, incorrectly marked manufacture | (G) Branched alkylphenol, sulfurized, calcium salts, overbased.
P-18-0035 | 06/24/2020 | 06/10/2020 | N | (S) Propenoic acid, 2-methyl-, 1,3-dioxolan-4-ylmethyl ester; 2-propenoic acid, 2-methyl-, 1,3-dioxan-5-yl ester.
P-18-0214 | 06/16/2020 | 05/07/2020 | N | (G) Polycyclic substituted alkane, polymer with cyclicalkylamine, epoxide, and polycyclic epoxide ether, reaction products with dialkylamine substituted alkyl amine.
P-18-0292 | 06/15/2020 | 06/15/2020 | N | (G) Alkanediol, polymer with 5-isocyanato-1-(isocyanatomethyl)-1,3,3-trimethylcyclohexane, alkylaminoalkyl methacrylate-blocked.
P-18-0347 | 06/09/2020 | 06/03/2020 | N | (S) Amines, polyethylenepoly-, triethylenetetramine fraction, polymers with guanidine hydrochloride (1:1).
P-18-0375A | 06/08/2020 | 05/17/2020 | NOC not received within 30 days of import date per regulation | (S) Oils, vegetable, sulfonated, sodium salts.
P-19-0051 | 06/09/2020 | 05/12/2020 | N | (G) 1,3-propanediamine, N1, N1-dimethyl-, polymers with alkylene glycol ether with alkyltriol (3:1) mixed acrylates and adipates, and alkylene glycol monoacrylate ether with alkyltriol (3:1).
P-19-0134 | 06/12/2020 | 06/10/2020 | N | (G) 5-isocyanato-1-(isocyanatomethyl)-1,3,3-trimethylcyclohexane], [Poly[oxy(methyl-1,2-ethanediyl)], .alpha.-hydro-.omega.-hydroxy-, polymer with 1,6-diisocyanatohexane], polymer with [Poly(oxy-1,4-butanediyl), .alpha.-hydro-.omega.-hydroxy-], [Cyclic amine-ketone adduct, reduced], and [1,3-Propanediol, 2-ethyl-2-(hydroxymethyl).
P-20-0050 | 06/18/2020 | 06/16/2020 | N | (S) Benzenepentanol, alpha,gamma-dimethyl-.
P-20-0052 | 06/04/2020 | 05/24/2020 | N | (S) Oxirane, 2-methyl-, polymer with oxirane, mono(3,5,5-trimethylhexanoate).
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 06/01/2020 to 06/30/2020
Case No. | Received date | Type of test information | Chemical substance
P-18-0293 | 05/29/2020 | Physical Chemical Properties of Chemilian L3000 XP | (S) Propanedioic acid, 2-methylene-, 1,3-dihexyl ester.
P-19-0147 | 06/16/2020 | Water Solubility Stability Study Draft Report (OECD Test Guideline 105), and Environmental Assessment | (G) Alkoxylated butyl alkyl ester.

If you are interested in information that is not included in these tables, you may contact EPA's technical information contact or general information contact as described under FOR FURTHER INFORMATION CONTACT to access additional non-CBI information that may be available.

(Authority: 15 U.S.C. 2601 et seq.)

Dated: July 10, 2020.
Pamela Myrick,
Director, Information Management Division, Office of Pollution Prevention and Toxics.

[FR Doc. 2020-16288 Filed 7-27-20; 8:45 am]

BILLING CODE 6560-50-P